ENVIRONMENTAL PROTECTION AGENCY

[EPA-HQ-ORD-2016-0632; FRL—9955-05-ORD]

Proposed Information Collection Request; Comment Request; Willingness To Pay Survey To Evaluate Recreational Benefits of Nutrient Reductions in Coastal New England Waters

AGENCY: Environmental Protection Agency (EPA).

ACTION: Notice.

SUMMARY: The Environmental Protection Agency (EPA) is planning to submit an information collection request (ICR), “Willingness to Pay Survey to Evaluate Recreational Benefits of Nutrient Reductions in Coastal New England Waters” (EPA ICR No. 2558.01, OMB Control No. 2080-NEW) to the Office of Management and Budget (OMB) for review and approval in accordance with the Paperwork Reduction Act (PRA) (44 U.S.C. 3501 et seq.). Before doing so, EPA is soliciting public comments on specific aspects of the proposed information collection as described below. This is a request for approval of a new collection. An Agency may not conduct or sponsor and a person is not required to respond to a collection of information unless it displays a currently valid OMB control number.

DATES: Comments must be submitted on or before January 9, 2017.

ADDRESSES: Submit your comments, referencing Docket ID No. EPA-HQ-ORD-2016-0632, online using www.regulations.gov (our preferred method), by email to Docket_ORD@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Marisa Mazzotta, U.S. Environmental Protection Agency, Office of Research and Development, Atlantic Ecology Division, 27 Tarzwell Drive, Narragansett, Rhode Island 02882; telephone number: 401-782-3026; fax number: 401-782-3139; email address: mazzotta.marisa@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Researchers at the EPA's Office of Research and Development (ORD), Atlantic Ecology Division (AED) are piloting an effort to better understand how reduced water quality due to nutrient enrichment affects the economic prosperity, social capacity, and ecological integrity of coastal New England communities. This project proposes a survey to collect data for a case study of changes in recreation demand and values due to changes in nutrients in northeastern coastal waters. This includes the development of methods and tools for estimating recreational values that can be applied in other locations, either by EPA researchers, EPA's regional offices or state partners. Our initial geographic focus for these efforts will be Cape Cod, Massachusetts (“the Cape”; Barnstable County), and New England residents within 100 miles of the Cape. We focus on Cape Cod and its surrounding coastal areas both in order to limit the scope of the work to remain feasible within our research budget and to coordinate this socio-economic analysis with extensive ecological research being conducted on the Cape by ORD researchers, researchers at EPA's Region 1 office, and other external research groups. Cape Cod is also in the midst of an extensive regional planning effort related to its coastal waters, and this research can provide helpful socio-economic information to decision makers about the use of those waters. Because the 100-mile radius from Cape Cod includes a large area of southern New England and the largest population centers in New England, the results will be more broadly applicable to residents of southern New England.

One of the key water quality concerns on Cape Cod, and throughout New England, is nonpoint sources of nitrogen, which lead to ecological impairments in estuaries, with resultant socio-economic impacts. The decisions needed to meet water quality standards are highly complex and involve significant cross-disciplinary challenges in identifying, implementing, and monitoring social and ecological management needs. We will focus on understanding recreational uses as valued economic goods in coastal New England (including beachgoing, swimming, fishing, shellfishing, and boating).

As a part of these efforts, EPA's ORD/AED is seeking approval to conduct a revealed preference survey to collect data on: People's saltwater recreational activities; how recreational values are related to water quality; how perceptions of water quality relate to objective measures; the connections between perceptions of water quality, recreational choices and values, and sense of place; and demographic information. If approved, the survey will be administered using a mixed-mode approach that includes a mailed invitation to a web survey with an optional paper survey for people who are unable or unwilling to answer the web survey. The survey will be sent to a total of 8,400 residents living in counties where more than 25% of the county's geographic boundaries falls within 100 miles of the Cape as measured from Bourne, Massachusetts, which is the first town on Cape Cod heading east. This area includes coastal counties of New Hampshire, the eastern half of Massachusetts, all of Rhode Island, and the eastern part of Connecticut. In addition, we will oversample two populations: residents of Cape Cod and people who shellfish recreationally. We will send 750 surveys to each of these groups.

ORD will use the survey responses to estimate willingness to pay for changes related to reductions in nutrient and pathogen loadings to coastal New England waters. The analysis relies on state of the art theoretical and statistical tools for non-market welfare analysis. A non-response bias analysis will also be conducted to inform the interpretation and validation of survey responses.

All responses to the survey will be kept confidential to the extent provided by law. To ensure that the final survey sample includes a representative and diverse population of individuals, the survey questionnaire will elicit basic demographic information, such as age, race and ethnicity, number of children under 18, type of employment, and income. However, the survey questionnaire will not ask respondents for personal identifying information, such as names or phone numbers. Instead, each survey response will receive a unique identification number. Prior to taking the survey, respondents will be informed that their responses will be kept confidential to the extent provided by law. The name and address of the respondent will not appear in the resulting database, preserving the respondents' identities. The survey data will be made public only after it has been thoroughly vetted to ensure that all other potentially identifying information has been removed. After data entry is complete, the surveys themselves will be destroyed and only respondent codes will remain.

Form Numbers: None.

Respondents/affected entities: Eligible respondents for the survey are individuals 18 years of age or older who reside in counties where at least 25% of county's geographic area falls within a 100-mile radius of Cape Cod. This includes coastal counties of New Hampshire, the eastern half of Massachusetts, all of Rhode Island, and the eastern part of Connecticut. The sample will be stratified by geography, with Barnstable County, Massachusetts sampled at a rate 3.06 times higher than the rest of the population in the study area. Additionally, the sample will be a dual-frame sample, where the main frame is the general population address-based frame of the U.S. Postal Service Delivery Sequence File, and a supplementary frame is the frame of shellfish license holder records. Households will be selected randomly from the DSF, which covers over 97% of residences in the U.S. EPA will request participation from a random stratified sample of 10,270 households in two phases. The first phase, a pretest, will be sent to 370 addresses. The second phase, encompassing full survey administration, will be administered to an additional 9,900 addresses. In each phase, we anticipate a response rate of 27 percent, resulting in 90 and 2,365 completed surveys, respectively, after accounting for expected undeliverable surveys.

Respondent's obligation to respond: voluntary.

Estimated number of respondents: 2,455 (total).

Frequency of response: The survey is a one-time data collection activity.

Total estimated burden: 614 hours (total). Burden is defined at 5 CFR 1320.03(b).

Total estimated cost: Assuming 15 minutes are needed to complete the survey, the total respondent cost comes to $21,386 for the pre-test and main survey combined, using an average wage rate for New England of $34.83 from the United States Department of Labor. This would be a one-time expenditure of their time.

Changes in Estimates: This is the first notice; there is no change in estimates at this time.

Dated: October 31, 2016.
Wayne Munns,
Division Director, Atlantic Ecology Division.

[FR Doc. 2016-27075 Filed 11-8-16; 8:45 am]

BILLING CODE 6560-50-P